DEPARTMENT OF HEALTH AND HUMAN SERVICES

Administration for Children and Families

Announcing the Domestic Violence Awareness Month YouTube Challenge; CFDA Number: 93.592

AGENCY: Family and Youth Services Bureau, ACYF, ACF, HHS

ACTION: Notice.

SUMMARY: The Administration for Children and Families (ACF), Administration on Children, Youth and Families (ACYF), Family and Youth Services Bureau (FYSB), Division of Family Violence and Prevention Services (FVPSA), announces a Domestic Violence Awareness Month YouTube Challenge. This Challenge is open to individuals and organizations that support children and youth exposed to domestic violence and their abused parents. The goal is to bring attention to the most innovative and inclusive approaches, practices, policies, programs, safe spaces, activities, and strategies that the public is using to improve safety, promote healing, and provide support for this special population.

DATES: Acceptance of video submissions will open on October 12, 2016, 12:00:00 a.m., ET. The video submission period will be open for exactly 3 weeks (21 calendar days) and will close November 2, 2016, at 11:59:59 p.m., ET. Waiver forms, video link, and written transcript of the video must be submitted on www.challenge.gov/domestic-violence-video-challenge by the deadline.

FOR FURTHER INFORMATION CONTACT: Mao Yang, Family and Youth Services Bureau, 300 C Street SW., Washington, DC 20201. Telephone: 202-401-5082, email: mao.yang@acf.hhs.gov.

SUPPLEMENTARY INFORMATION: In an effort to stimulate innovation, in this Challenge, FVPSA is asking the public (as Challenge-solvers) to submit videos featuring their most innovative means of helping to improve safety, promote healing, and build the resilience of children and youth exposed to domestic violence and their abused parents. The Challenge seeks innovative, creative, and inclusive practices, policies, programs, safe spaces, activities, and strategies to meet this end. Our goal is to learn more about, and bring attention to, new, emerging, and effective methods that go beyond traditional services, programs, and supports and that communities are using with this special population.

Eligibility

The Challenge is open to individuals and organizations. See the section on Video Submission Requirements.

To be eligible to win a prize under the Challenge, those entering:

(1) Must register to participate in the competition under the rules in this notice by submission of a waiver form with their video and script. The waiver form is available on the Domestic Violence YouTube Challenge as listed on www.challenge.gov/domestic-violence-video-challenge;

(2) Must comply with all submission, content, and format the requirements;

(3) In the case of a private entity, shall be incorporated in and maintain a primary place of business in the United States, and in the case of an individual, whether participating singly or in a group, shall be a citizen or permanent resident of the United States; and

(4) May not be a federal entity or federal employee acting within the scope of their employment.

Video Submission Requirements

Each individual or organization is limited to entering one video in the Challenge. Multiple submissions from the same source will be disqualified. Only the first 150 videos that fulfill the following requirements and are submitted by the deadline will be accepted for the competition.

To be eligible to participate in the Challenge, the Challenge solver must submit a video that meets the following requirements:

• Be 1-3 minutes long in length;

• Be in a compatible YouTube format with the proper codecs: WebM files, MPEG4, 3GPP, MOV, AVI, MPEGPS, WMV, FLV with suggested aspect of 16:9;

• Entrants must post their video submission to their favorite video sharing site and send the link to their video entry on the Domestic Violence YouTube Challenge listed on www.challenge.gov/domestic-violence-video-challenge by the deadline;

• Highlight one or more new, innovative, emerging, and effective approach(es), practice(s), policy(ies), program(s), safe space(s), activity(ies), strategy(ies), and any other way(s) that help to improve safety, promote healing, and build resilience of children exposed to domestic violence and their abused parents;

• Include a written transcript for the video (for closed captioning purposes); and

• Be aligned with the vision of FYSB (a future in which all of our nation's youth, individuals, and families, no matter what challenges they may face, can live healthy, productive, violence-free lives. More information can be found on www.acf.hhs.gov/fysb.)

Video Content

Videos must focus on children and youth exposed to domestic violence and their parents. In the 1-3 minute video, Challenge-solvers must highlight one or more approach(es), practice(s), policy(ies), program(s), safe space(s), activity(ies), and strategy(ies) that support children and youth beyond traditional services, programs, and supports. Videos should strive to raise awareness of available support for this special population. Challenge-solvers may focus on culturally specific and other groups of children and youth. Applicants should strive to be creative, innovative, and educational in their video content. Videos may include explanations or instruction on how the idea can be replicated in different communities. So that the privacy, confidentiality, and safety of survivors and clients of domestic violence prevention programs are respected, survivors and program clients may not be featured in contestant videos.

Each video entry must be accompanied by a written transcript.

Public Voting

After the submission period is closed, a public voting period will commence on www.challenge.gov/domestic-violence-video-challenge. To assist FVPSA in making this award, voters should vote for a video based on some of the criteria discussed in the Video Criteria section.

Voting will be open for 2 weeks (14 calendar days) that will begin after the submission deadline and end no later than November 30, 2016. The actual dates and deadline for public voting period will be posted on the www.challenge.gov/domestic-violence-video-challenge Web site.

Winner Selection

The top 15 videos with highest scores at the public voting deadline will move on to the next round of judging. In addition, FVPSA employees will select an additional five videos based on whether the videos demonstrate a new emerging and effective approach, to move on to the next round of judging by the panel of subject matter experts.

The judges, made up of the panel of subject matter experts, will evaluate, score, and rank the top 20 finalists' videos. The top three scoring videos will win the Challenge. FVPSA will award three prizes as follows: First Prize: $5,000; Second Prize: $3,000; and Third Prize: $2,000. All prize awards are subject to FVPSA verification of the winners' identity, eligibility, and participation in the Challenge. Awards will be paid using electronic funds transfer and may be subject to federal income taxes. FVPSA will comply with the International Revenue Service (IRS) withholding and reporting requirements, where applicable.

Judging Criteria

The judging panel of experts will use a 100-point scale to evaluate the top 15 videos from the public voting and the 5 videos selected by FVPSA staff. In case of tied results, the winners will be selected by majority vote. The judging criteria are:

• The extent to which the video content highlights one or more new, innovative, emerging, and effective approach(es), practice(s), policy(ies), program(s), safe space(s), activity(ies), strategy(ies), and any other way(s) that help to improve safety, promote healing, and build the resilience of children exposed to domestic violence and their abused parents. (25 points)

• The extent to which the video aligns with FYSB's vision of a future in which all our nation's youth, individuals, and families—no matter what challenges they may face—can live healthy, productive, violence-free lives (FYSB's vision can be found at www.acf.hhs.gov/fysb). (15 points)

• The extent to which the video content increases awareness of domestic violence issues. (15 points)

• The extent to which the video content is educational, imparts knowledge, or deepens understanding of supports for children, youth, and parents. (15 points)

• The extent to which the video content is innovative. (15 points)

• The extent to which the video content is creative. (15 points)

Waivers and Releases

To enter the Domestic Violence Awareness Month YouTube Challenge, registered participants must sign a waiver, agreeing to assume any and all risks and waive claims against the Federal Government and its related entities, except in the case of willful misconduct, for any injury, death, damage, or loss of property, revenue, or profits, whether direct, indirect, or consequential, arising from their participation in a competition, whether the injury, death, damage, or loss arises through negligence or otherwise. Participants shall be required to obtain liability insurance or demonstrate financial responsibility for claims, as detailed in 15 U.S.C. 3719(i)(2).

Challenge-solvers must also obtain a signed ACF photo/video release waiver for individuals featured on the videos and submit it with their video link by the submission deadline listed in the DATES section. The waiver is available at www.challenge.gov/domestic-violence-video-challenge.

Restrictions

Challenge-solvers cannot use funding from the Federal Government (either through grants or contracts) to compete in the Domestic Violence Awareness Month YouTube Challenge.

More details on the Challenge are available on www.challenge.gov/domestic-violence-video-challenge. Submitted videos may be featured at FVPSA meetings and events and posted on the FVPSA Web site.

Authority: 15 U.S.C. 3719 and 42 U.S.C. 10401(a)(1).

Dated: September 28, 2016.
Rafael López,
Commissioner, Administration for Children, Youth and Families.

[FR Doc. 2016-23853 Filed 9-29-16; 8:45 am]

BILLING CODE 4184-01-P